Title 3—

The President

Proclamation 10701 of February 6, 2024

National Tribal Colleges and Universities Week, 2024

By the President of the United States of America

A Proclamation

I have always believed that the promise of America is big enough for everyone to succeed and that it is each generation's responsibility to open the doors of opportunity just a little bit wider to include those who have been left behind. During National Tribal Colleges and Universities Week, we honor and celebrate these critical institutions for doing just that: providing opportunities for students and their communities throughout Indian Country.

A quality education can transform lives and give students the power to shape their future. But we know that not everyone has a fair shot at pursuing higher education—including many Native American students. We know that promoting educational opportunities is all the more important for Native people, after over a century of Federal assimilation policies that used education as a tool of cultural and physical violence—devastating Native communities and ripping Native families apart. We have seen time and again that Tribal Colleges and Universities uplift Native American students through culturally grounded education and put them on a path toward a brighter future. That is why my Administration has been working relentlessly to provide these institutions with the support they need to thrive.

During my first year in office, I was proud to issue an Executive Order on the White House Initiative on Advancing Educational Equity, Excellence, and Economic Opportunity for Native Americans and Strengthening Tribal Colleges and Universities. This initiative directs the Secretary of Education, the Secretary of the Interior, and the Secretary of Labor to collaborate with leaders from Tribal Nations to advance educational equity, excellence, and economic opportunity for Native American students. We are also investing millions of dollars to provide Tribal Colleges and Universities with the resources they deserve.

My Administration has also been working to make higher education more affordable for all students. To date, we have worked with the Congress to increase the maximum Pell Grant by $900—making it easier for millions of students to pay for school. We have also fixed the Public Service Loan Forgiveness program to ensure that students who become public servants receive the debt relief they are entitled to under the law. Through our Saving on a Valuable Education Plan, we are cutting payments for undergraduate loans in half, providing early forgiveness to many borrowers with low balance loans, and saving the typical borrower around $1,000 per year. We are pursuing new actions to relieve the burden of student debt for as many borrowers as we can, as fast as we can.

Every child in America has a dream. It is our responsibility to give them the opportunity to make those dreams a reality. This National Tribal Colleges and Universities Week, let us recommit to supporting these centers of academic excellence as they empower young Native American leaders to pursue their loftiest ambitions and build an America we can all be proud of.

NOW, THEREFORE, I, JOSEPH R. BIDEN JR., President of the United States of America, by virtue of the authority vested in me by the Constitution and the laws of the United States, do hereby proclaim February 4 through February 10, 2024, as National Tribal Colleges and Universities Week.

IN WITNESS WHEREOF, I have hereunto set my hand this sixth day of February, in the year of our Lord two thousand twenty-four, and of the Independence of the United States of America the two hundred and forty-eighth.

[FR Doc. 2024-02934

Filed 2-9-24; 8:45 am]

Billing code 3395-F4-P